DEPARTMENT OF COMMERCE

International Trade Administration

[C-122-815]

Redetermination Pursuant to NAFTA Panel Remand: Pure Magnesium and Alloy Magnesium From Canada

AGENCY: Import Administration, International Trade Administration, Department of Commerce.

ACTION: Notice of Redetermination Pursuant to NAFTA Panel Remand: Pure Magnesium and Alloy Magnesium From Canada.

SUMMARY: The Department of Commerce (“Commerce”) has prepared these results of redetermination pursuant to the decision of the Binational NAFTA Panel (“Panel”) in Alloy Magnesium and Pure Magnesium from Canada, USA-CDA-00-1904-07 (October 15, 2002) (“Panel Decision”). These results pertain to the Department's determination in Alloy Magnesium and Pure Magnesium from Canada: Final Results of Full Sunset Reviews, 65 FR 41444 (July 5, 2000) (“Final Results”) that the revocation of the countervailing duty order on pure magnesium and alloy magnesium would be likely to lead to the continuation or recurrence of a countervailable subsidy. The Panel remanded this sunset review to Commerce with instructions to amend its determination in this case by removing the reporting of an all others subsidy rate. The Panel affirmed Commerce's final remand determination on January 21, 2003. Accordingly, Commerce hereby amends the sunset review in this case by removing the reporting of an all others subsidy rate.

EFFECTIVE DATE: June 6, 2003.

FOR FURTHER INFORMATION CONTACT: Joanna Schlesinger or James P. Maeder, Jr., Office of Policy for Import Administration, International Trade Administration, U.S. Department of Commerce, 14th Street and Constitution Avenue, NW., Washington, DC 20230; telephone: (202) 482-4968 or (202) 482-3330.

SUPPLEMENTARY INFORMATION:

Statute and Regulations

This review is conducted pursuant to sections 751(c) and 752 of the Act. The Department's procedures for the conduct of sunset reviews are set forth in Procedures for Conducting Five-year ( “Sunset”) Reviews of Antidumping and Countervailing Duty Orders, 63 FR 13516 (March 20, 1998) (“Sunset Regulations”) and in 19 CFR part 351 (2002) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Background

The Gouvernement du Quebec (“GOQ”) and Magnesium Corporation of America (“Magcorp”) challenged certain findings made by Commerce in its Final Results before the Panel. On March 27, 2002, based on its findings pursuant to the GOQ and Magcorp's challenge, the Panel upheld Commerce's determination with respect to certain issues. However, the Panel remanded to Commerce this sunset review with instructions to reconsider: (i) The determination to utilize the results of the sixth review as the subsidy rate to be reported to the ITC; (ii) the basis for the all others rate; and (iii) the reasons for the failure to investigate subsidies alleged to have been received by Magnola Metallurgy, Inc. (“Magnola”). Panel Determination, USA-CDA-00-1904-07 at 31 (Mar. 27, 2002) (“Panel Determination”). The Panel further instructed Commerce to file its further remand determination within 45 days of the date of the order. On June 10, 2002, Commerce issued the draft remand results to the Gouvernement du Quebec (“GOQ”), Norsk Hydro Canada, Inc. (“NHCI”), and domestic interested parties.

Commerce issued the Final Results of Determination Pursuant to NAFTA Panel Remand of the Sunset Review of the Countervailing Orders on Pure and Alloy Magnesium from Canada (“Remand Determination”) on June 25, 2002. On July 15, 2002, the GOQ filed the Rule 73(2)(b) Challenge of the Determination on Remand by the Gouvernement du Quebec (“Rule 73(2)(b) Challenge”). The GOQ's Rule 73(2)(b) Challenge contends that Commerce improperly concluded that it was “required” to report an all others rate and that the rate selected was improper. U.S. Magnesium LLC (formerly Magcorp) ¹ also filed a Rule 73(2)(b) Challenge, contesting Commerce's refusal to investigate alleged subsidies to Magnola. Commerce responded to the Rule 73(2)(b) Challenges filed by the GOQ and U.S. Magnesium on August 5, 2002.

¹ U.S. Magnesium purchased all of the assets of Magcorp on June 24, 2002, pursuant to an auction approved by U.S. Bankruptcy Judge Robert E. Gerber of the Southern District of New York. See Motion for Substitution of Party, filed by U.S. Magnesium on July 15, 2002.

The Panel concluded that Commerce's remand determination with respect to Magnola is supported by substantial evidence and is in accordance with law. However, the Panel remanded the matter to Commerce with instructions to amend its determination by removing the reporting of an all others subsidy rate. The Panel further instructed Commerce to file its further remand determination within 45 days of the date of the order.

Final Results of Review

While we disagree with the Panel's finding with respect to the all others rate, consistent with the Panel's instructions we hereby amend our final determination by removing the reporting of an all others subsidy rate in this case. We determine that revocation of the countervailing duty order would likely lead to continuation or recurrence of a countervailable subsidy at the following percentage weighted-average margins:

Manufacturer/producers/exporter | Weighted- Average margin (percent)
Norsk Hydro Canada Inc. (“Norsk”) | 1.84

This notice serves as the only reminder to parties subject to administrative protective order (“APO”) of their responsibility concerning the disposition of proprietary information disclosed under APO in accordance with 19 CFR 351.305. Timely notification of return/destruction of APO materials or conversion to judicial protective order is hereby requested. Failure to comply with the regulations and the terms of an APO is a violation which is subject to sanction.

This five-year (“sunset”) review and notice are in accordance with sections 751(c), 752, and 777(i)(1) of the Act.

Dated: June 2, 2003.
Joseph A. Spetrini,
Acting Assistant Secretary for Import Administration.

[FR Doc. 03-14346 Filed 6-5-03; 8:45 am]

BILLING CODE 3510-DS-P